DEPARTMENT OF AGRICULTURE

Forest Service

Oregon Coast Provincial Advisory Committee

AGENCY: Forest Service, USDA.

ACTION: Notice of meeting.

SUMMARY: The Oregon Coast Province Advisory Committee will meet in Newport, OR, July 22, 2004. The theme of the meeting of Introduction/Overview/Business Planning. The agenda includes: Payments to Counties Update, Monitoring Trip Update, BLM Industry Settlement, PAC Subcommittee Update, Public Comment and Round Robin.

DATES: The meeting will be held July 22, 2004, beginning at 9 a.m.

ADDRESSES: The meeting will held at the Hallmark Resort, 744 SW., Elizabeth Street, Newport, OR.

FOR FURTHER INFORMATION CONTACT: Joni Quarnstrom, Public Affairs Specialist, Siuslaw National Forest, 541-75-7075, or write to Siuslaw National Forest Supervisor, PO Box 1148, Corvallis, OR 97339.

SUPPLEMENTARY INFORMATION: The meeting is open to the public. Council Discussion is limited to Forest Service/BLM staff and Council Members. Lunch will be on your own. A public input session will be at 2:45 p.m. for fifteen minutes. The meeting is expected to adjourn around 3:30 p.m.

Dated: July 7, 2004.
Michael A. Harvey,
Assistant Recreational Staff.

[FR Doc. 04-15797 Filed 7-12-04; 8:45 am]

BILLING CODE 3410-11-M